DEPARTMENT OF ENERGY

Federal Energy Regulatory Commission

[Docket No. CP01-390-000]

Egan Hub Partners, L.P.; Notice of Request Under Blanket Authorization

June 25, 2001.

Take notice that on June 18, 2001, Egan Hub Partners, L.P. (Egan Hub), 5400 Westheimer Court, Houston, Texas 77056, filed a request with the Commission in Docket No. CP01-390-000, pursuant to Sections 157.205 and 157.208 of the Commission's Regulations under the Natural Gas Act (NGA), for authorization to construct and operate facilities under Egan Hub's blanket certificate, issued in Docket No. CP96-199-000, in Acadia and Evangeline Parishes, Louisiana to interconnect with the mainline systems of Texas Eastern Transmission, LP (Texas Eastern) and Florida Gas Transmission Company (Florida Gas), all as more fully set forth in the request on file with the Commission and open to public inspection. This filing may be viewed on the web at http://www.ferc.fed.us/online/rims.htm (call 202-208-2222 for assistance).

Specifically, Egan Hub requests authorization to: (i) construct, own, operate, and maintain a new 21.34-mile, 24-inch diameter pipeline that will originate at the existing Egan Hub storage facilities in Acadia Parish, Louisiana and terminate at a proposed interconnect with Texas Eastern in Evangeline Parish; (ii) construct and own a new meter and regulator station and interconnect facilities at an interconnection with Texas Eastern in Evangeline Parish; and (iii) construct and own a new meter and regulator station and interconnect facilities at an interconnection with Florida Gas in Acadia Parish. The Texas Eastern M&R Station and Florida Gas M&R Station will be located on property owned by Egan Hub and will be operated and maintained by Texas Eastern and Florida Gas, respectively, pursuant to their Operation and Maintenance Agreements with Egan Hub. The estimated cost of the proposed facilities is approximately $17.7 million.

Egan Hub states that its proposed project will not adversely affect the rates or service of its existing customers. Egan Hub is not proposing any change its currently authorized market based rate authority, and contends that the proposed project will not lead to Egan Hub exercising market power. Egan Hub also states that the proposed project will provide its customers increased transportation options and greater access to markets and supplies.

Any questions regarding the application may be directed to S.E. Tillman, Director of Regulatory Affairs, Egan Hub Partners, L.P., Post Office Box 1642, Houston, Texas 77251-1642, or telephone (713) 627-5113 or FAX (713) 627-5947.

Any person or the Commission's staff may, within 45 days after the Commission has issued this notice, file pursuant to Rule 214 of the Commission's Procedural Rules (18 CFR 385.214) a motion to intervene or notice of intervention and pursuant to Section 157.205 of the Regulations under the NGA (18 CFR 157.205) a protest to the request. If no protest is filed within the allowed time, the proposed activity shall be deemed to be authorized effective the day after the time allowed for filing a protest. If a protest is filed and not withdrawn within 30 days after the time allowed for filing a protest, the instant request shall be treated as an application for authorization pursuant to Section 7 of the NGA. Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-16417 Filed 6-28-01; 8:45 am]

BILLING CODE 6717-01-M